DEPARTMENT OF LABOR

Employment and Training Administration

[TA-W-61,285]

Metrologic Instruments A Business Unit of Honeywell International Corporate Division Blackwood, NJ; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on May 14, 2007, applicable to workers of Metrologic Instruments Corporate Division, Blackwood, New Jersey. The notice was published in the Federal Register on June 6, 2007 (72 FR 31345).

At the request of a company official, the Department reviewed the certification for workers of the subject firm. The workers are engaged in the production of bar code scanners/imagers.

New information shows that on July 2, 2008, Honeywell International purchased Metrologic Instruments, Corporate Division, Blackwood, New Jersey and is currently known as Metrologic Instruments, A Business Unit of Honeywell International, Corporate Division, Blackwood, New Jersey.

Workers wages at the subject firm are being reported under two Unemployment Insurance (UI) tax accounts; Metrologic Instruments through the end of 2008 and will be paid through Honeywell International beginning in January 2009.

Accordingly, the Department is amending this certification to properly reflect this matter.

The amended notice applicable to TA-W-61,285 is hereby issued as follows:

“All workers of Metrologic Instruments, A Business Unit of Honeywell International, Corporate Division, Blackwood, New Jersey, who became totally or partially separated from employment on or after April 10, 2006, through May 14, 2009, are eligible to apply for adjustment assistance under Section 223 of the Trade Act of 1974, and are also eligible to apply for alternative trade adjustment assistance under Section 246 of the Trade Act of 1974.”

Signed at Washington, DC this 8th day of October 2008.
Linda G. Poole,
Certifying Officer, Division of Trade Adjustment Assistance.

[FR Doc. E8-24861 Filed 10-17-08; 8:45 am]

BILLING CODE 4510-FN-P